DEPARTMENT OF THE INTERIOR

Minerals Management Service

Environmental Documents Prepared for Proposed Oil and Gas Operations on the Gulf of Mexico Outer Continental Shelf (OCS)

AGENCY: Minerals Management Service, Interior.

ACTION: Notice of the availability of environmental documents. Prepared for OCS mineral proposals on the Gulf of Mexico OCS.

SUMMARY: The Minerals Management Service (MMS), in accordance with Federal Regulations that implement the National Environmental Policy Act (NEPA), announces the availability of NEPA-related Site-Specific Environmental Assessments (SEA's) and Findings of No Significant Impact (FONSI's), prepared by the MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: The MMS prepares EA's and FONSI's for proposals which relate to exploration for and the development/production of oil and gas resources on the Gulf of Mexico OCS. The EA's examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where the MMS finds that approval will not result in significant effects on the quality of the human environment. The FONSI briefly presents the basis for that finding and includes a summary or copy of the EA.

This notice constitutes the public notice of availability of environmental documents required under the NEPA Regulations.

This listing includes all proposals for which the FONSI's were prepared by the Gulf of Mexico OCS Region in the period subsequent to publication of the preceding notice.

Activity/operator | Location | Date
Fugro Geoservices, Inc., G&G Activities, SEA No. M01-001 | St. Petersburg Lease Area, 15 miles off the Florida coast | 03/29/01
ATP Oil and Gas Corporation, Pipeline Activity, SEA No. P-12776 (G-22138) | West Cameron Area, Blocks 635 and 634; High Island Area, Blocks A-370 and A-371; Lease OCS-G 22138, 120 miles off the Louisiana coast | 01/31/01
Shell Deepwater Development Inc., Development Operations, SEA Nos. N-6885, N-6890, and R-3582 | Garden Banks Area, Blocks 516, 472, and 559; Leases OCS-G 11528, 8252 and 11546; 133 to 140 miles off the Louisiana coast | 03/02/01
ARGO, L.L.C., Development Activity, SEA No. R-3560 | Ewing Bank Area, Blocks 958 and 1003, Leases OCS-G 6921 and 13091, 68 miles off the Louisiana coast | 03/09/01
W & T Offshore, Development Activity, SEA No. S-5383 | High Island Area, East Addition, South Extension, Block A-389, Lease OCS-G 2759, 110 miles off the Texas coast | 01/22/01
Freeport-McMoRan Sulphur LLC, Development Activity, SEA No. S-5469 | Main Pass Area, Block 299, Lease OCS-G 9372, 16 miles off the Louisiana coast | 03/09/01
Texaco Exploration and Production Inc., Exploration Activity, SEA No. S-5499 | Green Canyon Area, Block 136, Lease OCS-G 4508, 113 miles off the Louisiana coast | 02/08/01
Coastal Oil & Gas Corporation, Structure Removal Activity, SEA No. ES/SR 01-001 | West Cameron Area, South Addition, Block 498, Lease OCS-G 3520, 92 miles off the Louisiana coast | 01/29/01
Houston Exploration Company, Structure Removal Activity, SEA Nos. ES/SR 01-002 & 01-003 | East Cameron Area, Block 185, Lease OCS-G 5377, 54 miles off the Louisiana coast | 01/17/01
Dominion Exploration & Production, Inc., Structure Removal Activity, SEA No. ES/SR 01-004 | South Timbalier Area, Block 77, Lease OCS-G 4827, 20 miles off the Louisiana coast | 02/20/01
Energy Resources Technology, Inc., Structure Removal Activity, SEA No. ES/SR 01-005 | West Cameron Area, West Addition, Lease OCS-G 3275, 53 miles off the Louisiana coast | 03/05/01
Amerada Hess Corporation, Structure Removal Activity, SEA No. ES/SR 01-006 | South Timbalier Area, Block 206, Lease OCS-G 5613, 42 miles off the Louisiana coast | 03/05/01
Maritech, Structure Removal Activity, SEA No. ES/SR 01-07 | Matagorda Island Area, Block 568, Lease OCS-G 4541, 18 miles off the Louisiana coast | 03/12/01
Shell Offshore Inc., Structure Removal Activity, SEA No. ES/SR 01-08 | Brazos Area, Block A-19, Lease OCS-G 3936, 36 miles off the Texas coast | 03/15/01
Coastal Oil & Gas Corporation, Structure Removal Activity, SEA No. ES/SR 01-09 | Viosca Knoll Area, Block 33, Lease OCS-G 14592, 19 miles off the Alabama coast | 03/19/01
Apache Corporation, Structure Removal Activity, SEA Nos. ES/SR 01-010, 01-011, 01-015, 01-016, and 01-017 | West Cameron Area, South Addition, Block 532; South Marsh Area, South Addition, Block 172 South Timbalier Area, South Addition, Block 221; High Island Area, Block 86; Leases OCS-G 3970, 11922, 5618, and 14155; 23 to 101 miles off the Texas coast and 47 to 127 miles off the Louisiana coast | 03/29/01
Ocean Energy, Structure Removal Activity, SEA Nos. ES/SR 01-012, 01-013, and 01-14 | Galveston Area, Block 298; Brazos Area, Blocks 399 and 515; Leases OCS-G 13783, 7217, and 11277; 13 to 33 miles off the Texas coast | 03/27/01
Seneca Resources Corporation, Structure Removal Activity, SEA No. ES/SR 01-018 | West Delta Area, Block 78, Lease OCS-G 16478, 9 miles off the Louisiana coast | 04/05/01
Chevron U.S.A., Structure Removal Activity, SEA No. ES/SR 01-019 | South Timbalier Area, Block 69, Lease OCS-G 16422, 27 miles off the Louisiana coast | 04/11/01
Newfield Exploration Company, Structure Removal Activity, SEA Nos. ES/SR 01-020 and 01-021 | East Cameron Area, Block 63, Lease OCS-G 0160, 26 miles off the Louisiana coast | 04/11/01
Seneca Resources Corporation, Structure Removal Activity, SEA No. ES/SR 01-022 | Eugene Island Area, Block 47, Lease OCS-G 0317, 17 miles off the Louisiana coast | 04/11/01
Pogo Production Company, Structure Removal Activity, SEA No. ES/SR 01-023 | High Island Area, Block A-451, Lease OCS-G 14894, 92 miles off the Louisiana coast | 04/11/01

Persons interested in reviewing environmental documents for the proposals listed above or obtaining information about EA's and FONSI's prepared for activities on the Gulf of Mexico OCS are encouraged to contact MMS at the address or telephone in the FOR FURTHER INFORMATION section.

Dated: April 27, 2001.
Chris C. Oynes,
Regional Director, Gulf of Mexico OCS Region.

[FR Doc. 01-15102 Filed 6-14-01; 8:45 am]

BILLING CODE 4310-MR-U